DEPARTMENT OF DEFENSE

Office of the Secretary

[Docket ID DoD-2013-OS-0076]

Privacy Act of 1974; System of Records

AGENCY: Defense Intelligence Agency, DoD.

ACTION: Notice to alter a System of Records.

SUMMARY: The Defense Intelligence Agency is proposing the alter a system to its existing inventory of records systems subject to the Privacy Act of 1974 (5 U.S.C. 552a), as amended.

DATES: This proposed action will be effective on May 17, 2013 unless comments are received which result in a contrary determination. Comments will be accepted on or before May 16, 2013.

ADDRESSES: You may submit comments, identified by docket number and title, by any of the following methods:

* Federal Rulemaking Portal: http://www.regulations.gov. Follow the instructions for submitting comments.

* Mail: Federal Docket Management System Office, 4800 Mark Center Drive; East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Theresa Lowery at Defense Intelligence Agency, DAN 1-C, 600 MacDill Blvd., Washington, DC 20340-0001 or by phone at (202) 231-1193.

SUPPLEMENTARY INFORMATION: The Defense Intelligence Agency system of records notices subject to the Privacy Act of 1974 (5 U.S.C. 552a), as amended, have been published in the Federal Register and are available from the address FOR FURTHER INFORMATION CONTACT.

The proposed system report, as required by 5 U.S.C. 552a of the Privacy Act of 1974, as amended, was submitted on April 1, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: April 1, 2013.
Aaron Siegel,
Alternate OSD Federal Register Liaison Officer, Department of Defense.

LDIA 10-0004

System name:

Occupational, Safety, Health, and Environmental Management Records (July 2, 2010, 75 FR 38494).

Changes:

* * * * *

System location:

Delete entry and replace with “Defense Intelligence Agency, 200 MacDill Boulevard, Washington, DC 20340-0001.”

* * * * *

Purpose:

Delete entry and replace with “This system will manage occupational, safety, health, and environmental management case files. Information is used to comply with accident/incident reporting and/or investigation and to identify and correct known or potential hazards in order to facilitate prevention programs.”

* * * * *

Notification Procedure:

Delete entry and replace with “Individuals seeking to determine whether information about themselves is contained in this system of records should address written inquiries to the DIA Freedom of Information Act Office (DAN-1A), Defense Intelligence Agency, 200 MacDill Blvd., Washington, DC 20340-0001.

Request should contain the individuals' full name, current address, and telephone number.”

Record Access Procedures:

Delete entry and replace with “Individuals seeking access to information about themselves contained in this system should address written inquiries to the Freedom of Information Act Office (DAN-1A/FOIA), Defense Intelligence Agency, 200 MacDill Blvd., Washington, DC 20340-0001.

Request should contain the individual's full name, current address, and telephone number.”

* * * * *

Exemptions claimed for the system:

Delete entry and replace with “Investigatory material compiled for law enforcement purposes, other than material within the scope of subsection 5 U.S.C 552a (j)(2), may be exempt pursuant to 5 U.S.C 552 (k)(2). However, if an individual is denied any right, privilege, or benefit for which he would otherwise be entitled by Federal law or which he would otherwise be eligible, as a result of maintenance of the information, the individual will be provided access to the information except to the extent that disclosure would reveal the identity of a confidential source. This exemption provides limited protection of investigative reports maintained in a system of records used in personnel or administrative actions.

(k)(5) Investigatory material complied solely for the purpose of determining suitability, eligibility, or qualifications for Federal civilian employment, military service, Federal contracts, or access to classified information but only to the extent such material would reveal the identity of a confidential source.

An exemption rule for this system has been promulgated in accordance with the requirements of 5 U.S.C 553 (b)(1),(2), and (3), (c) and (e) and published in 32 CFR part 319.”

[FR Doc. 2013-08899 Filed 4-15-13; 8:45 am]

BILLING CODE 5001-06-P